DEPARTMENT OF TRANSPORTATION

Federal Aviation Administration

14 CFR Part 39

[Docket No. FAA-2013-0797; Directorate Identifier 2013-NM-007-AD]

RIN 2120-AA64

Airworthiness Directives; The Boeing Company Airplanes

AGENCY: Federal Aviation Administration (FAA), DOT.

ACTION: Notice of proposed rulemaking (NPRM).

SUMMARY: We propose to adopt a new airworthiness directive (AD) for certain The Boeing Company Model 767-300 and 767-300F series airplanes. This proposed AD was prompted by reports of malfunctions in the flight deck display units resulting in blanking, blurring, or loss of color on the display. This proposed AD would require modification and installation of components in the main equipment center. For certain other airplanes this proposed AD would require modification, replacement, and installation of flight deck air relief system (FDARS) components. We are proposing this AD to prevent malfunctions of the flight deck display units, which could affect the ability of the flightcrew to read the displays for airplane attitude, altitude, or airspeed, and consequently reduce the ability of the flightcrew to maintain control of the airplane.

DATES: We must receive comments on this proposed AD by November 12, 2013.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For Boeing service information identified in this proposed AD, contact Boeing Commercial Airplanes, Attention: Data & Services Management, P.O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Francis Smith, Aerospace Engineer, Cabin Safety and Environmental Controls Branch, ANM-150S, FAA, Seattle Aircraft Certification Office, 1601 Lind Avenue SW., Renton, Washington 98057-3356; phone: 425-917-6596; fax: 425-917-6590; email: francis.smith@faa.gov.

SUPPLEMENTARY INFORMATION:

Comments Invited

We invite you to send any written relevant data, views, or arguments about this proposal. Send your comments to an address listed under the ADDRESSES section. Include “Docket No. FAA-2013-0797; Directorate Identifier 2013-NM-007-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We have received reports of malfunctions in flight compartment display units on Model 767-300F airplanes. Operators of Model 767-300F airplanes reported flight deck display unit malfunctions including blanking, blurring, or loss of color caused by moisture or condensation being collected inside the display units during operation in hot and humid environments. The reports range from a malfunction in a single display unit to malfunctions in multiple display units. Boeing is aware of the likely causes of display unit malfunctions related to moisture or condensation ingress. The most frequent instance was display units being cold soaked by the air delivered from the air conditioning packs by the electronic cooling system through the 3-way valve in hot and humid conditions. Malfunctions of the flight deck display units, if not corrected, could affect the ability of the flightcrew to read the displays for airplane attitude, altitude, or airspeed, and consequently reduce the ability of the flightcrew to maintain control of the airplane.

Model 767-300 airplanes have an electronic cooling system design similar to the electronic cooling system on the Model 767-300F airplane; therefore, Model 767-300 airplanes might be subject to the unsafe condition revealed on Model 767-300F airplanes.

Relevant Service Information

We reviewed the following service information.

• Boeing Service Bulletin 767-21-0240, Revision 1, dated November 12, 2009.

• Boeing Service Bulletin 767-21-0244, Revision 1, dated March 8, 2010.

• Boeing Service Bulletin 767-21-0245, Revision 1, dated September 30, 2010.

• Boeing Alert Service Bulletin 767-21A0247, dated October 10, 2011.

• Boeing Alert Service Bulletin 767-21A0253, dated October 12, 2012.

For information on the procedures and compliance times, see this service information at http://www.regulations.gov by searching for Docket No. FAA-2013-0797.

Concurrent Service Information

Boeing Service Bulletin 767-21-0240, Revision 1, dated November 12, 2009; and Boeing Service Bulletin 767-21-0244, Revision 1, dated March 8, 2010 (both for Model 767-300 series airplanes); specify prior or concurrent accomplishment of Boeing Service Bulletin 767-31-0073, dated October 12, 1995 (for certain Model 767-300 series airplanes).

Boeing Service Bulletin 767-21-0245, Revision 1, dated September 30, 2010 (for Model 767-300F series airplanes), specifies that if the 3-way valve control logic change in Boeing Service Bulletin 767-21-0235, dated July 29, 2011, is done in concurrently with Boeing Service Bulletin 767-21-0245, Revision 1, dated September 30, 2010, operators only need to do the functional test in the Accomplishment Instructions of Boeing Service Bulletin 767-21-0245, Revision 1, dated September 30, 2010.

Boeing Alert Service Bulletin 767-21A0247, dated October 10, 2011 (for Model 767-300F series airplanes), specifies prior or concurrent accomplishment of Boeing Service Bulletin 767-21-0235, dated October 8, 2009; or Revision 1, dated July 29, 2011 (for certain Model 767-300F series airplanes).

For information on the procedures, see this service information at http://regulations.gov by searching for Docket No. FAA-2013-0797.

FAA's Determination

We are proposing this AD because we evaluated all the relevant information and determined the unsafe condition described previously is likely to exist or develop in other products of the same type design.

Proposed AD Requirements

This proposed AD would require accomplishing the actions specified in the service information identified previously, except where Boeing Service Bulletin 767-21-0240, Revision 1, dated November 12, 2009; and Boeing Service Bulletin 767-21-0244, Revision 1, dated March 8, 2010; specify installing carpet in the flight deck, this proposed AD would not specifically require that action because it is not critical to address the unsafe condition.

Costs of Compliance

We estimate that this proposed AD affects 43 airplanes of U.S. registry.

We estimate the following costs to comply with this proposed AD:

Estimated Costs
Action | Labor cost | Parts cost | Cost per product | Cost on U.S. operators
Pressure switch installation, relay replacement, wire routing (Boeing Alert Service Bulletin 767-21A0247, dated October 10, 2011) | 16 work-hours × $85 per hour = $1,360 | $6,979 | $8,339 | $183,458 (22 airplanes)
Carpet, muffler, and drain tube installation, relay removal and installation, wire bundle changes (Boeing Service Bulletin 767-21-0240, dated November 12, 2009; and Boeing Service Bulletin 767-21-0244, Revision 1, dated March 8, 2010) | 37 work-hours × $85 per hour = $3,145 | 0 | 3,145 | 50,320 (16 airplanes)
Wire bundle and relay changes, install 2 diodes (Boeing Service Bulletin 767-21-0245, Revision 1, dated September 30, 2010) | 14 work-hours × $85 per hour = $1,190 | 1,148 | 2,338 | 11,690 (5 airplanes)
Replace duct, install additional duct, valve, altitude switch, and pitot tube (Boeing Alert Service Bulletin 767-21A0253, dated October 12, 2012) | 76 work-hours × $85 per hour = $6,460 | 55,663 | N/A | N/A

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866;

(2) Is not a “significant rule” under the DOT Regulatory Policies and Procedures (44 FR 11034, February 26, 1979);

(3) Will not affect intrastate aviation in Alaska; and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2013-0797; Directorate Identifier 2013-NM-007-AD.

(a) Comments Due Date

We must receive comments by November 12, 2013.

(b) Affected ADs

None.

(c) Applicability

This AD applies to The Boeing Company Model 767-300 and 767-300F series airplanes, certificated in any category; as identified in the service information specified in paragraphs (c)(1) through (c)(5) of this AD.

(1) Boeing Service Bulletin 767-21-0240, Revision 1, dated November 12, 2009.

(2) Boeing Service Bulletin 767-21-0244, Revision 1, dated March 8, 2010.

(3) Boeing Service Bulletin 767-21-0245, Revision 1, dated September 30, 2010.

(4) Boeing Alert Service Bulletin 767-21A0247, dated October 10, 2011.

(5) Boeing Alert Service Bulletin 767-21A0253, dated October 12, 2012.

(d) Subject

Joint Aircraft System Component (JASC)/Air Transport Association (ATA) of America Code 2158, Air Conditioning.

(e) Unsafe Condition

This AD was prompted by reports of malfunctions in the flight deck display units resulting in blanking, blurring, or loss of color on the display. We are issuing this AD to prevent malfunctions of the flight deck display units, which could affect the ability of the flightcrew to read the displays for airplane attitude, altitude, or airspeed, and consequently reduce the ability of the flightcrew to maintain control of the airplane.

(f) Compliance

Comply with this AD within the compliance times specified, unless already done.

(g) Modification, Replacement, and Installation of Flight Deck Air Relief System (FDARS) Components

For Model 767-300F series airplanes as identified in Boeing Alert Service Bulletin 767-21A0253, dated October 12, 2012: Within 72 months after the effective date of this AD, in the main equipment center and the area under the left and right sides of the flight deck door, replace the existing duct with a new duct, install new FDARS components (including mounting brackets, ducts, orifice, outlet valve, and screen), modify wiring, modify the relay installation in panel P36, and install a new altitude switch and pitot tube, in accordance with the Accomplishment Instructions of Boeing Alert Service Bulletin 767-21A0253, dated October 12, 2012.

(h) Modification and Installation of Components in the Main Equipment Center

(1) For Model 767-300F series airplanes as identified in Boeing Alert Service Bulletin 767-21A0247, dated October 10, 2011: Within 72 months after the effective date of this AD, in the main equipment center, install a new bracket on the E8 Engine Indication and Crew Alerting System (EICAS) rack at station 266.5, install a new pressure switch to the bracket at the E8 EICAS rack, make changes to wire bundles W176, W596, W1114, W1702, W2000, replace relay K10355 with a new relay K10718, and flush the pitot static system, in accordance with the Accomplishment Instructions of Boeing Alert Service Bulletin 767-21A0247, dated October 10, 2011.

(2) For Model 767-300F series airplanes as identified in Boeing Service Bulletin 767-21-0245, Revision 1, dated September 30, 2012: Within 72 months after the effective date of this AD, in the main equipment center, replace relay K10355 with a new relay K10718, add two diodes in the E8 EICAS rack, and make changes to wire bundles W0176, W596, W1702, W2000, and W2006, in accordance with the Accomplishment Instruction of Boeing Service Bulletin 767-21-0245, Revision 1, dated September 30, 2012, except as provided by paragraph (i) of this AD.

(3) For Model 767-300 series airplanes as identified in Boeing Service Bulletin 767-21-0240, Revision 1, dated November 12, 2009; and Boeing Service Bulletin 767-21-0244, Revision 1, dated March 8, 2010: Within 72 months after the effective date of this AD, in the main equipment center, install drain tubing and muffler assemblies, change wire bundle W1718, change relays, placards, and wire bundle W5075 in the P136 left relay panel, change wire bundle W2006 in the E8 EICAS rack; and change wire bundle W1114 in the P50 electrical systems card file; in accordance with the Accomplishment Instructions of Boeing Service Bulletin 767-21-0240, Revision 1, dated November 12, 2009; or Boeing Service Bulletin 767-21-0244, Revision 1, dated March 8, 2010; as applicable.

(i) Exception to Paragraph (h) of This AD

For Model 767-300F series airplanes identified as Group 1 airplanes in Boeing Service Bulletin 767-21-0245, Revision 1, dated September 30, 2010: If the 3-way valve control logic change in Boeing Service Bulletin 767-21-0235, dated July 29, 2011, is done prior to or concurrent with the actions required by paragraph (h)(2) of this AD, operators need to do only the functional test of the manifold interconnect valve control logic modification, in accordance with the Accomplishment Instructions of Boeing Service Bulletin 767-21-0245, Revision 1, dated September 30, 2010. Operators do not need to do the other actions specified in the Accomplishment Instructions of Boeing Service Bulletin 767-21-0245, Revision 1, dated September 30, 2010, if the actions in the Accomplishment Instructions in Boeing Service Bulletin 767-21-0235, dated July 29, 2011, are done concurrently. If the functional test fails, before further flight, do corrective actions that are approved in accordance with the procedures specified in paragraph (l) of this AD.

(j) Concurrent Requirements

For Model 767-300 series airplanes as identified in Boeing Service Bulletin 767- 21-0240, Revision 1, dated November 12, 2009; and Boeing Service Bulletin 767-21-0244, Revision 1, dated March 8, 2012: Prior to or concurrently with accomplishing the requirements of paragraph (h)(3) of this AD, do all of the actions specified in the Accomplishment Instructions of Boeing Service Bulletin 767-31-0073, dated October 12, 1995.

(k) Credit for Previous Actions

This paragraph provides credit for the actions required by paragraph (h)(2) of this AD, if those actions were performed before the effective date of this AD using Boeing Service Bulletin 767-21-0245, dated April 16, 2010, which is not incorporated by reference in this AD.

(l) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (m)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO to make those findings. For a repair method to be approved, the repair must meet the certification basis of the airplane, and the approval must specifically refer to this AD.

(m) Related Information

(1) For more information about this AD, contact Francis Smith, Aerospace Engineer, Cabin Safety and Environmental Controls Branch, ANM-150S, FAA, Seattle Aircraft Certification Office, 1601 Lind Avenue SW., Renton, Washington 98057-3356; phone: 425-917-6596; fax: 425-917-6590; email: francis.smith@faa.gov.

(2) For service information identified in this AD, contact Boeing Commercial Airplanes, Attention: Data & Services Management, P.O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, Washington. For information on the availability of this material at the FAA, call 425-227-1221.

Issued in Renton, Washington, on September 16, 2013.
Ross Landes,
Acting Manager, Transport Airplane Directorate, Aircraft Certification Service.

[FR Doc. 2013-23273 Filed 9-24-13; 8:45 am]

BILLING CODE 4910-13-P